DEPARTMENT OF THE INTERIOR

Bureau of Land Management

43 CFR Parts 2800, 2860, 2880, and 2920

[BLM_HQ_FRN_MO4500175819]

RIN 1004-AE60

Update of the Communications Uses Program, Cost Recovery Fee Schedules, and Section 512 of FLPMA for Rights-of-Way; Corrections

AGENCY: Bureau of Land Management, Interior.

ACTION: Final rule; corrections.

SUMMARY: The Bureau of Land Management (BLM) is correcting a final rule that appeared in the Federal Register on April 12, 2024.

DATES: Effective on May 13, 2024.

FOR FURTHER INFORMATION CONTACT: Stephen Fusilier, Branch Chief, Rights-of-Way, telephone: 202-309-3209, email: sfuslie@blm.gov, or by mail 1849 C St. NW, Washington, DC 20240, for information regarding the substance of this final rule.

Individuals in the United States who are deaf, blind, hard of hearing, or have a speech disability may dial 711 (TTY, TDD, or TeleBraille) to access telecommunications relay services. Individuals outside the United States should use the relay services offered within their country to make international calls to the point-of-contact in the United States. For a summary of the final rule, please see the final rule summary document in docket BLM-2022-0002 on www.regulations.gov.

SUPPLEMENTARY INFORMATION: In Federal Register Document 2024-06997 appearing on page 25922 in the Federal Register of Friday, April 12, 2024, the following corrections are made:

§ 2801.2 [Corrected]

1. On page 25957, in the second column, in amendatory instruction 3.b, in the definition of “Maintenance,” redesignate the second paragraph (ii) as paragraph (iii).

§ 2881.5 [Corrected]

2. On page 25972, in the second column, in amendatory instruction 41, in the definition of “Processing activities,” redesignate the second paragraph (ii) as paragraph (iii).

This action by the Principal Deputy Assistant Secretary is taken pursuant to an existing delegation of authority.

Steven H. Feldgus,
Principal Deputy Assistant Secretary, Land and Minerals Management.

[FR Doc. 2024-10398 Filed 5-10-24; 8:45 am]

BILLING CODE 4331-29-P